DEPARTMENT OF THE INTERIOR

National Park Service

Captain John Smith Chesapeake National Historic Trail Advisory Council

AGENCY: National Park Service, Interior.

ACTION: Notice of meeting.

SUMMARY: As required by the Federal Advisory Committee Act, the National Park Service (NPS) is hereby giving notice that the Advisory Committee on the Captain John Smith Chesapeake National Historic Trail will hold a meeting. Designated through an amendment to the National Trails System Act (16 U.S.C. 1241), the new trail will consist of “a series of water routes extending approximately 3,000 miles along the Chesapeake Bay and its tributaries in the States of Virginia, Maryland, Delaware, and in the District of Columbia,” tracing the 1607-1609 voyages of Captain John Smith to chart the land and waterways of the Chesapeake Bay. This meeting is open to the public. Preregistration is required for both public attendance and comment. Any individual who wishes to attend the meeting and/or participate in the public comment session should register via e-mail at Christine_Luceron@nps.gov or telephone: (757) 898-2432. For those wishing to make comments, please provide a written summary of your comments prior to the meeting.

DATES: The Captain John Smith Chesapeake National Historic Trail Advisory Council will meet from 9:30 a.m. to 4:30 p.m. on Wednesday, October 22, 2008.

ADDRESSES: The meeting will be held at the Historic Jamestowne Visitor Center, 1368 Colonial Parkway, Jamestown, VA 23081. For more information, please contact the NPS Chesapeake Bay Program Office, 410 Severn Avenue—Suite 109, Annapolis City Marina, Annapolis, MD 21403. For background information and questions regarding the Captain John Smith Chesapeake National Historic Trail, please contact John Maounis, Superintendent, telephone: (410) 267-5778. John Maounis is the Designated Federal Official for the Advisory Council.

FOR FURTHER INFORMATION CONTACT: Christine Lucero, Partnership Coordinator for the Captain John Smith Chesapeake National Historic Trail, telephone: (757) 898-2432 or e-mail: Christine_Lucero@nps.gov.

SUPPLEMENTARY INFORMATION: Under section 10(a)(2) of the Federal Advisory Committee Act (5 U.S.C. App.), this notice announces a meeting of the Captain John Smith Chesapeake National Historic Trail Advisory Council.

Topics to be discussed during this meeting will include a review of the purpose of the Advisory Council, a review of the Comprehensive Management Plan/Environmental Assessment public meeting results, and the establishment of sub-committees.

The Committee meeting is open to the public. Members of the public who would like to make comments to the Committee should preregister via e-mail at Christine_Lucero@nps.gov or telephone: (757) 898-2432; a written summary of comments should be provided prior to the meeting. Comments will be taken for 30 minutes at the beginning of the meeting. If additional time is needed, the time allotted for comments can be extended by an additional 30 minutes. All comments will be made part of the public record and will be electronically distributed to all Committee members.

Dated: September 4, 2008.
John Maounis,
Superintendent, Captain John Smith National Historic Trail, National Park Service, Department of the Interior.

[FR Doc. E8-21557 Filed 9-19-08; 8:45 am]

BILLING CODE 4312-52-M